DEPARTMENT OF THE TREASURY

Internal Revenue Service

Open Meeting of the Taxpayer Advocacy Panel Joint Committee; Correction

AGENCY: Internal Revenue Service (IRS), Treasury.

ACTION: Correction to notice of an open meeting.

SUMMARY: This document contains a correction to a notice of open meeting of the Taxpayer Advocacy Panel Joint Committee, which was published in the Federal Register on Tuesday, March 24, 2009 (74 FR 12461). This notice related to the taxpayer advocacy panel's solicitation of public comments, ideas, and suggestions on improving customer service at the Internal Revenue Service.

FOR FURTHER INFORMATION CONTACT: Susan Gilbert at 1-888-912-1227, or 404-338-7185.

SUPPLEMENTARY INFORMATION:

Background

The notice of an open meeting that is the subject of this correction is hereby given pursuant to section 10(a)(2) of the Federal Advisory Committee Act, 5 U.S.C App. (1988).

Need for Correction

As published, the notice of an open meeting of the Taxpayer Advocacy Panel Joint Committee contains errors which may prove to be misleading and are in need of clarification.

Correction of Publication

Accordingly, the publication of the open meeting of the Taxpayer Advocacy Panel Joint Committee, which was the subject of FR Doc. E9-6371, is corrected as follows:

On page 12461, column 2, under the caption “DATES:”, second line, the language “Wednesday, May 20, 2009.” is corrected to read “Wednesday, May 27, 2009.”.

On page 12461, column 2, under the caption “SUPPLEMENTARY INFORMATION:”, line 7 the language “held Wednesday, May 20, 2009, at 3”, is corrected to read “held Wednesday, May 27, 2009, at 3”.

LaNita Van Dyke,
Chief, Publications and Regulations Branch, Legal Processing Division, Associate Chief Counsel (Procedure and Administration).

[FR Doc. E9-10665 Filed 5-6-09; 8:45 am]

BILLING CODE 4830-01-P